DEPARTMENT OF DEFENSE

Office of the Secretary

Defense Science Board

AGENCY: Department of Defense.

ACTION: Notice of Advisory Committee Meeting Cancellations.

SUMMARY: The Defense Science Board Task Force on Red Lessons Learned meeting scheduled for December 16-17, 2004, will not be held.

Dated: December 15, 2004.
Jeannette Owings-Ballard,
OSD Federal Register Liaison Officer, Department of Defense.

[FR Doc. 04-27755 Filed 12-17-04; 8:45 am]

BILLING CODE 5001-06-M